NUCLEAR REGULATORY COMMISSION

Sunshine Act Meeting

AGENCY HOLDING THE MEETING: Nuclear Regulatory Commission.

DATE: Weeks of December 10, 17, 24, 31, 2001, January 7, 14, 2002.

PLACE: Commissioners' Conference Room, 11555 Rockville Pike, Rockville, Maryland.

STATUS: Public and Closed.

MATTERS TO BE CONSIDERED:

Week of December 10, 2001

There are no meetings scheduled for the Week of December 10, 2001.

Week of December 17, 2001—Tentative

There are no meetings scheduled for the Week of December 17, 2001.

Week of December 24, 2001—Tentative

There are no meetings scheduled for the Week of December 24, 2001.

Week of December 31, 2001—Tentative

There are no meetings scheduled for the Week of December 31, 2001.

Week of January 7, 2002—Tentative

Wednesday, January 9, 2002

9:30 a.m.

Meeting with Advisory Committee on Nuclear Waste (ACNW) (Public Meeting) (Contact: John Larking, 301-415-7360)

Week of January 14, 2002—Tentative

There are no meetings scheduled for the Week of January 14, 2002.

*The schedule for Commission meetings is subject to change on short notice. To verify the status of meetings call (recording)—(301) 415-1292. Contact person for more information: David Louis Gamberoni (301) 415-1651.

Additional Information: By a vote of 5-0 on December 4 and 5, the Commission determined pursuant to U.S.C. 552b(e) and § 9.107(a) of the Commission's rules that “Affirmation of Dominion Nuclear Connecticut, Inc. (Millstone Nuclear Power Station, Units 2 and 3)” be held of December 5, and no less than one week's notice to the public.

By a vote of 5-0 on December 5, the Commission determined pursuant to U.S.C. 552b(e) and § 9.107 (a) of the Commission's rules that “Affirmation of Connecticut Yankee Atomic Power Company (Haddam Neck Plant); Docket 50-213-OLA” be held on December 5, and on less than one week's notice to the public.

By a vote of 5-0 on November 30 and December 3, the Commission determined pursuant to U.S.C. 552b(e) and § 9.107(a) of the Commission's rules that “Discussion of Intragovernmental and Security Issues (Closed—Ex. 1 & 9)” be held on December 5, and on less than one week's notice to the public.

The NRC Commission Meeting Schedule can be found on the Internet at: http://www.nrc.gov.

This notice is distributed by mail to several hundred subscribers; if you no longer wish to receive it, or would like to be added to the distribution, please contact the Office of the Secretary, Washington, D.C. 20555 (301-415-1969). In addition, distribution of this meeting notice over the Internet System is available. If you are interested in receiving this Commission meeting schedule electronically, please send an electronic message to dkw@nrc.gov.

Dated: December 6, 2001.
David Louis Gamberoni,
Technical Coordinator, Office of the Secretary.

[FR Doc. 01-30733 Filed 12-7-01; 12:45 pm]

BILLING CODE 7590-01-M